DEPARTMENT OF THE INTERIOR

Fish and Wildlife Service

[FWS-R3-ES-2018-N085; FXES11130300000-189-FF03E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act of 1973, as amended. We invite the public and local, State, Tribal, and Federal agencies to comment on these applications. Before issuing any of the requested permits, we will take into consideration any information that we receive during the public comment period.

DATES: We must receive your written comments on or before August 30, 2018.

ADDRESSES: Document availability and comment submission: You may, within 30 days of the date of publication of this notice (see DATES) submit requests for copies of the applications and related documents, and submit any comments by one of the following methods. All requests and comments should specify the applicant name(s) and application number(s) (e.g., TEXXXXXX):

• Email: permitsR3ES@fws.gov. Please refer to the respective permit number (e.g., Application No. TEXXXXXX) in the subject line of your email message.

• U.S. Mail: Regional Director, Attn: Carlita Payne, U.S. Fish and Wildlife Service, Ecological Services, 5600 American Blvd. West, Suite 990, Bloomington, MN 55437-1458.

FOR FURTHER INFORMATION CONTACT: Carlita Payne, 612-713-5343; permitsR3ES@fws.gov. Individuals who are hearing or speech impaired may call the Federal Relay Service at 1-800-877-8339 for TTY assistance.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant | Species | Location | Activity | Type of take | Permit action
TE81001C | Katharine Zlonis, Cass Lake, MN | Rusty patched bumble bee (Bombus affinis) | MN | Conduct presence/absence surveys, document habitat use, conduct population monitoring, evaluate impacts | Capture, handle, hold, release | New.
TE81122C | Three Rivers Park District, Plymouth, MN | Rusty patched bumble bee (Bombus affinis) | MN | Conduct presence/absence surveys, document habitat use, conduct population monitoring, evaluate impacts | Capture, handle, hold, release | New.
TE86137B | The Nature Conservancy, Minneapolis, MN | Dakota skipper (Hesperia dacotae) | MN, ND, SD | Monitoring, habitat management | Add new activities— propagate and reintroduce—to existing authorized activities: prescribed burns | Amend.
TE81137C | Luther College, Decorah, IA | Rusty patched bumble bee (Bombus affinis) | IA | Conduct presence/absence surveys, document habitat use, conduct population monitoring, evaluate impacts | Capture, handle, hold, release | New.
TE84882C | U.S. Forest Service, Deer River, MN | Rusty patched bumble bee (Bombus affinis) | MN | Conduct presence/absence surveys, document habitat use, conduct population monitoring, evaluate impacts | Capture, handle, hold, release | New.
TE85294C | Amy Wolf, Green Bay, WI | Rusty patched bumble bee (Bombus affinis) | WI | Conduct presence/absence surveys, document habitat use, conduct population monitoring, evaluate impacts | Capture, handle, hold, release | New.
TE86600C | National Park Service Ashland, WI, and Bad River Band of Lake Superior Tribe of Chippewa, Odanah, WI | Piping plover (Charadrius melodus) | WI | Conduct presence/absence surveys, document habitat use, conduct population monitoring, evaluate impacts | Capture, handle, mist-net, band, collect feather and blood samples propagate, temporary hold, release | New.
TE98032A | James Gardner, Jefferson City, MO | Indiana bat (Myotis sodalis), gray bat (M. grisescens), northern long-eared bat (M. septentrionalis), Ozark big-eared bat (Corynorhinus townsendii ingens) | Add new location—WV—to existing authorized locations: AR, IL, IN, IA, KS, KY, MO, OK, TN | Conduct presence/absence surveys, document habitat use, conduct population monitoring, evaluate impacts | Capture, handle, mist-net, radio-tag, release | Amend.
TE64073B | Ecological and GIS Services, Indianola, IA | Dakota skipper (Hesperia dacotae), Poweshiek skipperling (Oarisma poweshiek) | IA, MN, ND, SD | Conduct presence/absence surveys, document habitat use, conduct population monitoring, evaluate impacts | Capture, handle, hold, release | Renew.
TE90420C | Jennifer Bonta, Melrose, MA | Indiana bat (Myotis sodalis), northern long-eared bat (M. septentrionalis) | AL, AR, CT, DE, GA, IL, IN, IA, KS, KY, LA, ME, MD, MA, MI, MN, MS, MO, MT, NE, NH, NJ, NY, NC, ND, OH, OK, PA, RI, SC, SD, TN, VT, VA, WV, WI, WY | Conduct presence/absence surveys, document habitat use, conduct population monitoring, evaluate impacts | Capture, handle, mist-net, harp trap, release | New.
TE64077B | Scott Krych, Minneapolis, MN | Dakota skipper (Hesperia dacotae), Poweshiek skipperling (Oarisma poweshiek) | MN, MT, ND, SD | Conduct presence/absence surveys, document habitat use, conduct population monitoring, evaluate impacts | Capture, handle, hold, release | Renew.
TE90423C | Shaughn Barnett, Austin, TX | Clubshell (Pleurobema clava), fanshell (Cyprogenia stegaria), fat pocketbook (Potamilus capax), Higgins eye (pearlymussel) (Lampsilis higginsii), pink mucket (pearlymussel) (L. abrupta), northern riffleshell (Epioblasma torulosa rangiana), purple cat's paw pearlymussel (E. obliquata obliquata), white catspaw (pearlymussel) (E. o. perobliqua), snuffbox mussel (E. triquetra), orangefoot pimpleback (pearlymussel) (Plethobasus cooperianus), sheepnose mussel (P. cyphyus), rayed bean (Villosa fabalis), scaleshell mussel (Leptodea leptodon), spectaclecase (mussel) (Cumberlandia monodonta) | IL, IN, OH | Conduct presence/absence surveys, document habitat use, conduct population monitoring, evaluate impacts | Capture, handle, hold, release | New.
TE64239B | Nathanael Light, Ozark, MO | Add Ozark big-eared bat (Corynorhinus towsendii ingens) to existing permitted species: Indiana bat (Myotis sodalis), gray bat (M. grisescens), northern long-eared bat (M. septentrionalis) | AL, AR, CT, DE, D.C., FL, GA, IL, IN, IA, KS, KY, LA, ME, MD, MA, MI, MN, MS, MO, MT, NE, NH, NJ, NY, NC, ND, OH, OK, PA, RI, SC, SD, TN, VT, VA, WV, WI, WY | Conduct presence/absence surveys, document habitat use, conduct population monitoring, evaluate impacts | Capture, handle, mist-net, harp trap, band, radio-tag, release | Amend.
TE90426C | Natalie Dingledine, Haslett, MI | Hungerford's crawling water beetle (Brychius hungerfordi) | MI | Conduct presence/absence surveys, document habitat use, conduct population monitoring, evaluate impacts | Capture, handle, hold, relocate, release | New.
TE130900 | EnviroScience, Inc., Stow, OH | Add Texas hornshell (Popenaias popeii) and Yellow lance (Elliptio lanceolata) to existing permitted species: 70 freshwater mussel species, shortnose sturgeon (Acipenser brevirostrum), blue shiner (Cyprinella caerulea), Cherokee darter (Etheostoma scotti), Etowah darter (E. etowahae), amber darter (Percina antesella), goldline darter (P. aurolineata), Conasauga logperch (P. jenkinsi), snail darter (P. tanasi) | Add new locations—NC, TX, VA—to existing authorized locations: AR, FL, GA, IL, IN, IA, KY, MI, MN, MO, OH, TN, WI | Conduct presence/absence surveys, document habitat use, conduct population monitoring, evaluate impacts | Capture, handle, temporary hold, release, relocate | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

Section 10(c) of the Endangered Species Act of 1973, as amended (16 U.S.C. 1531 et seq.).

Dated: June 15, 2018.
Lori H. Nordstrom,
Assistant Regional Director, Ecological Services, Midwest Region.

[FR Doc. 2018-16315 Filed 7-30-18; 8:45 am]

BILLING CODE 4333-15-P